DEPARTMENT OF ENERGY

Federal Energy Regulatory Commission

18 CFR Part 35

[Docket No. RM01-12-000]

Remedying Undue Discrimination Through Open Access Transmission Service and Standard Electricity Market Design; Notice of Extension of Time To File Requests To Speak at Technical Conferences

October 24, 2002.

AGENCY: Federal Energy Regulatory Commission, DOE.

ACTION: Notice of extension of time.

SUMMARY: On October 22, 2002, the Commission issued a Notice of Technical Conferences in this docket. See 67 FR 65913 (Oct. 29, 2002). The Commission's notice scheduled a series of technical conferences for November 6, 2002, November 19, 2002 and December 3, 2002. The dates for filing requests to participate in the conferences are being extended at the request of various entities.

DATES: The dates for filing requests to speak are as follows:

November 6th conference: October 29, 2002.

November 19th conference: November 7, 2002.

December 3rd conference: November 7, 2002.

ADDRESSES: Send requests to speak to: Office of the Secretary, Federal Energy Regulatory Commission, 888 First Street, NE., Washington, DC 20426.

FOR FURTHER INFORMATION CONTACT: Sarah McKinley, Office of External Affairs, Federal Energy Regulatory Commission, 888 First Street, NE., Washington, DC 20426, (202) 502-8004.

SUPPLEMENTARY INFORMATION: 1. The Commission issued a Notice of Technical Conferences in this docket on October 22, 2002, announcing further details of conferences that will be held on November 6, 2002, November 19, 2002, and December 3, 2002. The notice requested all parties interested in speaking at the conferences to file a request to speak with the Commission no later than October 25, 2002.

2. Various entities have asserted that three days is not sufficient time to consider the Notice of Technical Conference, coordinate a response, and identify potential speakers. The Commission will grant an extension of time to permit interested parties to file requests to speak at the November 6, 2002 conference no later than Tuesday, October 29, 2002. Parties interested in speaking at the November 19, 2002 conference or the December 3, 2002 conference should file their requests to speak no later than November 7, 2002. If possible, interested speakers should also send a copy of their requests to speak by e-mail to customer@ferc.gov; however, this procedure cannot be used in lieu of filing a request to speak as described below.

3. Requests to speak may be filed in paper format or electronically. Those making paper filings should submit the original and 14 copies of their request to speak to the Office of the Secretary, Federal Energy Regulatory Commission, 888 First Street, NE., Washington DC 20426. Requests to speak may be filed electronically via the Internet in lieu of paper. The Commission strongly encourages electronic filings. See 18 CFR 385.2001(a)(1)(iii) and the instructions on the Commission's Web site under the “e-Filing” link. Assistance for electronic filing is available at (866) 208-3676, or by e-mail to ferconlinesupport@ferc.gov. Do not submit requests to speak to ferconlinesupport@ferc.gov.

Magalie R. Salas,
Secretary.

[FR Doc. 02-28149 Filed 11-4-02; 8:45 am]

BILLING CODE 6717-01-P